SECURITIES AND EXCHANGE COMMISSION

[Release No. 34-94870; File Nos. SR-MIAX-2022-15, SR-EMERALD-2022-14]

Self-Regulatory Organizations; Miami International Securities Exchange, LLC and MIAX Emerald, LLC; Notice of Withdrawal of Proposed Rule Changes To Establish Fees for the Exchanges' cToM Market Data Products

May 9, 2022.

On April 1, 2022, Miami International Securities Exchange, LLC (“MIAX”) and MIAX Emerald, LLC (“MIAX Emerald”) (collectively, the “Exchanges”) each filed with the Securities and Exchange Commission (“Commission”), pursuant to Section 19(b)(1) of the Securities Exchange Act of 1934 (“Act”),¹ and Rule 19b-4 thereunder,² a proposed rule change to establish fees for, respectively, the MIAX Complex Top of Market (“cToM”) and the MIAX Emerald cToM market data products.

¹ 15 U.S.C. 78s(b)(1).

² 17 CFR 240.19b-4.

The proposed rule changes were immediately effective upon filing with the Commission pursuant to Section 19(b)(3)(A) of the Act.³ On April 20, 2022, the proposed rule changes were published for comment in the Federal Register and, pursuant to Section 19(b)(3)(C) of the Act,⁴ the Commission: (1) Temporarily suspended the proposed rule changes; and (2) instituted proceedings under Section 19(b)(2)(B) of the Act ⁵ to determine whether to approve or disapprove the proposed rule changes.⁶ On April 29, 2022, the Exchanges withdrew the proposed rule changes (SR-MIAX-2022-15, SR-EMERALD-2022-14).

³ 15 U.S.C. 78s(b)(3)(A). A proposed rule change may take effect upon filing with the Commission if it is designated by the exchange as “establishing or changing a due, fee, or other charge imposed by the self-regulatory organization on any person, whether or not the person is a member of the self-regulatory organization.” 15 U.S.C. 78s(b)(3)(A)(ii).

⁴ 15 U.S.C. 78s(b)(3)(C).

⁵ 15 U.S.C. 78s(b)(2)(B).

⁶ See Securities Exchange Act Release Nos. 94716 (April 14, 2022), 87 FR 23616 (SR-MIAX-2022-15); and 94715 (April 14, 2022), 87 FR 23674 (SR-EMERALD-2022-14).

For the Commission, by the Division of Trading and Markets, pursuant to delegated authority.⁷
⁷ 17 CFR 200.30-3(a)(12).
J. Matthew DeLesDernier,
Assistant Secretary.

[FR Doc. 2022-10254 Filed 5-12-22; 8:45 am]

BILLING CODE 8011-01-P